DEPARTMENT OF TRANSPORTATION

Federal Railroad Administration

[Docket Number FRA-2008-0029]

Petition for Waiver of Compliance

Under part 211 of Title 49 Code of Federal Regulations (CFR), this provides the public notice that on October 9, 2017, Norfolk Southern Corporation (NS) petitioned the Federal Railroad Administration (FRA) for a waiver of compliance from certain provisions of the Federal railroad safety regulations contained at 49 CFR part 231, Railroad Safety Appliance Standards. FRA assigned the petition Docket Number FRA-2008-0029.

Specifically, NS is seeking a renewal of its waiver of compliance from 49 CFR 231.1(k) which are the requirements for uncoupling levers for box and other house cars built or placed in service before October 1, 1966. NS seeks this waiver for its Rail Train service, which is non-revenue service operated by NS to deliver sections of continuously welded rail to rail gangs replacing rail throughout the NS system. This equipment has the sole purpose of hauling welded rail sections spanning from car to car throughout the train. Sections of welded rail span several cars at once and the cars serve as a continuous support for the sections of rail while in transit and at the work site.

NS requests approval to operate all Rail Trains with uncoupling levers removed from both ends of the rail cars that are coupled to one another in this train service. These trains operate only on NS property in Maintenance of Way service and are not operated in revenue service, nor are they offered to other carriers in interchange. NS states that its process of uncoupling cars allows for safe uncoupling through utilization of Mechanical Department personnel under Blue Flag Protection. Additionally, NS states that there are safety benefits to be gained in granting relief from 49 CFR 231.1(k). Namely, the waiver will help prevent unintentional train uncoupling during these operations and the resulting potential employee injuries and damage to rail structure and road bed.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 18, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John K. Alexy,
Director, Office of Safety Analysis.

[FR Doc. 2017-23840 Filed 11-1-17; 8:45 am]

BILLING CODE 4910-06-P